DEPARTMENT OF LABOR

Employment and Training Administration

[TA-W-59,283; TA-W-59,283A]

Staktek Group L.P., Austin, TX, Including an Employee of Staktek Group L.P., Austin, TX Located in Poughquag, NY; Amended Certification Regarding Eligibility To Apply for Worker Adjustment Assistance and Negative Determination Regarding Eligibility To Apply for Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and a Negative Determination Regarding Eligibility To Apply For Alternative Trade Adjustment Assistance on June 7, 2006, applicable to workers of Staktek Group L.P., Austin, Texas. The notice was published in the Federal Register on July 14, 2006 (71 FR 40159).

At the request of the State agency, the Department reviewed the certification for workers of the subject firm. New information shows that a worker separation has occurred involving an employee of the Austin, Texas facility of Staktek Group L.P., located in Poughquag, New York.

Mr. Jerry Barbaro provided sales function services related to the production of stacked memory chips produced by the subject firm.

Based on these findings, the Department is amending this certification to include employees of the Austin, Texas facility of Staktek Group L.P. located in Poughquag, New York.

The intent of the Department's certification is to include all workers of Staktek L.P., Austin, Texas who were adversely affected by a shift in production to Mexico.

The amended notice applicable to TA-W-59,283 is hereby issued as follows:

“All workers of Staktek Group L.P., Austin, Texas (TA-W-59,283), and including an employee located in Poughquag, New York (TA-W-59,283A), who became totally or partially separated from employment on or after April 25, 2005, through June 7, 2008, are eligible to apply for adjustment assistance under Section 223 of the Trade Act of 1974.” I further determine that all workers of Staktek Group L.P., Austin, Texas are denied eligibility to apply for alternative trade adjustment assistance under section 246 of the Trade Act of 1974.

Signed at Washington, DC, this 29th day of December 2006.
Richard Church,
Certifying Officer, Division of Trade Adjustment Assistance.

[FR Doc. E7-138 Filed 1-9-07; 8:45 am]

BILLING CODE 4510-30-P